DEPARTMENT OF THE INTERIOR

Minerals Management Service

Programmatic Environmental Assessment of Structure-Removal Operations on the Gulf of Mexico Outer Continental Shelf

AGENCY: Minerals Management Service (MMS), Interior.

ACTION: Notice of availability of an environmental assessment.

SUMMARY: The Minerals Management Service has prepared an environmental assessment (EA) to evaluate the potential environmental impacts of structure-removal activities on the Gulf of Mexico (GOM) Outer Continental Shelf (OCS). The activities analyzed in the EA include vessel and equipment mobilization, structure preparation, nonexplosive- and explosive-severance activities, post-severance lifting and salvage, and site-clearance verification. The impact-producing factors of structure removals considered in the EA include seafloor disturbances, air emissions and water discharges, pressure and acoustic energy from explosive detonations, and space-use conflicts with other OCS users.

FOR FURTHER INFORMATION CONTACT: Minerals Management Service, Gulf of Mexico OCS Region, 1201 Elmwood Park Boulevard, New Orleans, Louisiana 70123-2394, Mr. Dennis Chew, (504) 736-2793.

SUPPLEMENTARY INFORMATION: The MMS requires operators engaged in activities on the OCS, including structure-removal or decommissioning activities, to comply with the OCS Lands Act of 1953, as amended, and its implementing regulations for operations at 30 CFR part 250, and with a number of lease stipulations, Notices to Lessees, and other mitigation measures designed to reduce or eliminate impacts to sensitive environmental resources from impact-producing factors such as vessel or aircraft traffic, anchoring, and trash and debris. As part of the impact analyses completed in the Structure-Removal Operations EA, current (the status quo) and additional feasible mitigation measures were considered and evaluated to reduce further the potential for impacts to marine mammals, sea turtles, archaeological artifacts, and sensitive biological features. Based on established significance criteria, the results of the impact analyses are that structure-removal activities are not expected to result in significant adverse impacts to any of the potentially affected resources. Potentially adverse but not significant impacts were identified for marine mammals, and negligible to potentially adverse but not significant impacts were identified for sea turtles. No potentially significant impacts were identified for air and water quality; fish, benthic, and archaeological resources; or other OCS pipeline, navigation, and military uses. The EA has resulted in a Finding of No Significant Impact (FONSI). Based on this EA, we have concluded that the structure-removal activities evaluated in the EA will not significantly affect the quality of the human environment. Preparation of an environmental impact statement is not required. The EA will be included as part of the information package used to petition the National Oceanic and Atmospheric Administration (NOAA) for small “takes” incidental to explosive-severance activities in the GOM, under the enabling regulations of the Marine Mammal Protection Act. Information from the EA will also be used in documentation for a formal consultation with NOAA under Section 7 of the Endangered Species Act (50 CFR 402.14).

Public Comments: Interested parties may submit comments on this EA/FONSI within 30 days of this Notice's publication to the Regional Supervisor, Leasing and Environment (MS 5410), Gulf of Mexico OCS Region, Minerals Management Service, 1201 Elmwood Park Boulevard, New Orleans, Louisiana 70123-2394. Comments may be submitted in one of the following three ways:

1. Comments may be submitted using MMS's new Public Connect on-line commenting system at https://ocsconnect.mms.gov. This is the preferred method for commenting. From the Public Connect “Welcome” screen, search for “Programmatic Environmental Assessment of Structure-Removal Operations on the Gulf of Mexico Outer Continental Shelf” or select it from the “Projects Open for Comment” menu.

2. Written comments may be enclosed in an envelope labeled “Comments on Structure-Removal Operations EA/FONSI” and mailed to the above address.

3. Comments may be sent to the MMS e-mail address: environment@mms.gov. All comments received will be considered in the decisionmaking process for structure-removal operations.

EA Availability: To obtain a copy of the EA, you may contact the Minerals Management Service, Gulf of Mexico OCS Region, Attention: Public Information Office (MS 5034), 1201 Elmwood Park Boulevard, Room 114, New Orleans, Louisiana 70123-2394 (1-800-200-GULF). You my also view the EA on the MMS Web site at http://www.gomr.mms.gov.

Dated: November 22, 2004.
Chris C. Oynes,
Regional Director, Gulf of Mexico OCS Region.

[FR Doc. 05-3914 Filed 2-28-05; 8:45 am]

BILLING CODE 4310-MR-P